DEPARTMENT OF LABOR

Office of the Secretary

Submission for OMB Review: Comment Request

July 29, 2004.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King at 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: OFCCP Recordkeeping and Reporting Requirements—Supply and Service.

OMB Number: 1215-0072.

Frequency: Annually.

Type of Response: Reporting and recordkeeping.

Affected Public: Business or other for-profit; not-for-profit institutions; and State, local, or tribal government.

Number of Respondents: 94,900.

Annual Responses: 94,900.

Information collection requirement | Responses | Average response time (hours) | Annual burden hours
Recordkeeping Burden:
Initial Development of Affirmative Action Plan (AAP) | 949 | 113.06 | 107,294
Annual Update of AAP | 93,951 | 51.47 | 4,835,823
Maintenance of AAP | 94,900 | 51.47 | 4,884,670
Uniform Guidelines on Employees Selection Procedures | 5,750 | 2.18 | 12,535
Reporting Burden:
Standard Form 100 | 36,187 | 3.70 | 133,892
Scheduling Letter | 6,092 | 28.35 | 172,708
Compliance Check Letter | 1,660 | 0.40 | 664
Total |  |  | 10,147,586

Total Annualized capital/startup costs: $0.

Total Annual Costs (operating/maintaining systems or purchasing services): $60,798.

Description: Recordkeeping and reporting requirements incurred by Federal contractors under Executive Order 11246, section 503 of the Rehabilitation Act of 1973, and section 4212 of the Vietnam Era Veterans' Readjustment Act are necessary to substantiate compliance with nondiscrimination and affirmative action requirements enforced by the ESA's Office of Contract Compliance Programs.

Ira L. Mills,
Departmental Clearance Officer.

[FR Doc. 04-17712 Filed 8-3-04; 8:45 am]

BILLING CODE 4510-CM-P